DEPARTMENT OF ENERGY

Office of Science Financial Assistance Program Notice 02-04; Experimental Program to Stimulate Competitive Research (EPSCoR); Building EPSCoR-State/National Laboratory Partnerships

AGENCY: U.S. Department of Energy.

ACTION: Notice inviting research grant applications.

SUMMARY: The Office of Basic Energy Sciences (BES) of the Office of Science (SC), U.S. Department of Energy (DOE), in keeping with its energy-related mission to assist in strengthening the Nation's scientific research enterprise through the support of basic science, engineering, and mathematics, announces its interest in receiving grant applications for collaborative partnerships between academic or industrial researchers from states eligible for the DOE/EPSCoR program and researchers at DOE's National Laboratories, facilities, and centers. The purpose of the DOE/EPSCoR program is to enhance the capability of designated states to conduct nationally-competitive energy-related research, and to develop science and engineering manpower in energy-related areas to meet current and future needs. The purpose of this program notice is to initiate and promote partnering and collaborative relationships that build beneficial energy-related research programs with strong participation by students, postdoctoral fellows and young faculty from EPSCoR states.

DATES: Potential applicants are required to submit a brief preapplication. All preapplications, referencing Program Notice 02-04, must be received by DOE by 4:30 P.M., E.DT., April 17, 2002, (preapplications received after this date will not be considered). A response to the preapplications encouraging or discouraging a formal application will be communicated to the applicant within approximately thirty days of receipt. The deadline for receipt of formal applications is 4:30 P.M., E.DT., July 10, 2002, (formal applications received after this date will not be considered), in order to be accepted for merit review and to permit timely consideration for award in Fiscal Year 2003.

ADDRESSES: All preapplications, referencing Program Notice 02-04, should be sent to Dr. Matesh N. Varma, Division of Materials Sciences and Engineering, SC-132, Office of Science, U.S. Department of Energy, 19901 Germantown Road, Germantown, MD 20874-1290. After receiving notification from DOE encouraging submission of a formal application, applicants may prepare formal applications and send them to: U.S. Department of Energy, Office of Science, Grants and Contracts Division, SC-64, 19901 Germantown Road, Germantown, MD 20874-1290, ATTN: Program Notice 02-04. This above address must also be used when submitting applications by U.S. Postal Service Express, any commercial mail delivery service, or when hand carried by the applicant.

FOR FURTHER INFORMATION CONTACT: Dr. Matesh N. Varma, DOE/EPSCoR Program Manager, Division of Materials Sciences and Engineering, SC-132, Office of Science, U.S. Department of Energy, 19901 Germantown Road, Germantown, MD 20874-1290, Telephone: (301) 903-3209, Facsimile: (301) 903-9513 or Internet e-mail address: matesh.varma@science.doe.gov.

SUPPLEMENTARY INFORMATION: To continue to enhance the competitiveness of states and territories identified for participation in the Experimental Program to Stimulate Competitive Research (EPSCoR), DOE encourages the formation of partnerships between academic and industrial researchers in EPSCoR states and the researchers at DOE's National Laboratories, facilities and centers in scientific areas supported by DOE's Office of Science. These collaborations should address areas of research of current interest to the Department. Undergraduate and graduate students, postdoctoral fellows and young faculty must be active members of the research team, and it is encouraged that these investigators spend a summer or significant time during the academic year at a National Laboratory, facility or center. It is also encouraged that collaborating scientists from the National Laboratories visit collaborating EPSCoR state faculty for exchange of scientific ideas and fostering active collaboration. Subcontracting arrangements with DOE National Laboratories will not be permitted. DOE eligible states and territories for the EPSCoR program are: Alaska, Alabama, Arkansas, Hawaii, Idaho, Kansas, Kentucky, Louisiana, Maine, Mississippi, Montana, Nebraska, Nevada, New Mexico, North Dakota, Oklahoma, South Carolina, South Dakota, Vermont, West Virginia, Wyoming, and the Commonwealth of Puerto Rico.

Program Funding

It is anticipated that approximately $550,000 will be available in FY 2003, for research that encourages and facilitates collaborative efforts between researchers from EPSCoR states and researchers at DOE's National Laboratories, facilities, and centers. Multiple-year funding of grant awards is expected subject to satisfactory progress of the research, the availability of funds, and evidence of substantial interactions between the EPSCoR researchers and the National Laboratory partner. Awards are expected to range up to a maximum of $150,000 annually with terms up to three years. The number of awards and range of funding will depend on the number of applications received and selected for award. Cost sharing of exactly 10% of the total budget is required from non-federal sources. All DOE/EPSCOR award funds will be provided to the recipient organization within the EPSCoR state for the purpose of supporting activities in the EPSCoR state and may include travel and lodging, faculty or student stipends, materials, services and equipment.

Applications

To minimize undue effort on the part of applicants and reviewers, interested parties must submit preapplications. Only one application per individual is permitted, and individuals currently receiving DOE EPSCoR funds are not eligible to apply. The preapplications will be evaluated relative to the scope and research needs of the Department of Energy. The brief preapplication must consist of (1) one to two pages of narrative describing the research objectives and methods of accomplishment, (2) a letter from the appropriate state EPSCoR coordinator endorsing the preapplication, and (3) a letter of intent from the DOE National Laboratory researcher confirming willingness to collaborate on the project. The preapplications will be grouped according to programmatic areas of interest to the DOE and will be reviewed by DOE laboratory management to determine the priority of the proposed research. The preapplications will also be reviewed by the relevant programmatic research area program manager. DOE program managers will be asked to rank EPSCoR preapplications by program priority. They will also be asked for their willingness to provide cofunding if a project is selected for approval. Based on this review, DOE/EPSCoR management will recommend formal submission of applications to the Department. A telephone number, facsimile number, and e-mail address are required parts of the preapplication. Instructions regarding the contents of a preapplication and other preapplication guidelines can be found on the SC Grants and Contracts Web site at: http://www.sc.doe.gov/production/grants/preapp.html.

In addition to the project description, all preapplications and formal applications must include the following information:

(1) Applications should explain the relevance of the proposed research to the agency's programmatic needs. On the cover page, applicants should specify the relevant DOE technical program office, and if known, the name of the program manager, and telephone number. DOE program descriptions and the contact person information may be accessed via the Web at: http://www.doe.gov.

(2) Applications must demonstrate clear evidence of collaborative intent, including a delineation of each partner's role and contribution to the research effort as well as a “Letter-of-Intent” from the participating DOE National Laboratory, facility, or center.

(3) Applications must explain the individual value to both the EPSCoR and the National Laboratory partners. There should be clear objectives, not necessarily the same, for each partner.

Applications will be subjected to scientific merit review (peer review) and will be evaluated against the following evaluation criteria, listed in descending order of importance as codified at 10 CFR part 605.10(d).

1. Scientific and/or Technical Merit of the Project,

2. Appropriateness of the Proposed Method or Approach,

3. Competency of Applicant's Personnel and Adequacy of Proposed Resources,

4. Reasonableness and Appropriateness of the Proposed Budget.

The evaluation will include program policy factors such as the relevance of the proposed research to the terms of the announcement and an agency's programmatic needs and priority. Note: External peer reviewers are selected with regard to both their scientific expertise and the absence of conflict-of-interest issues. Non-federal reviewers will often be used, and submission of an application constitutes agreement that this is acceptable to the investigator(s) and the submitting institution.

Applications received by SC under its current competitive application mechanisms that meet the criteria outlined in this Notice may also be deemed appropriate for consideration under this announcement and may be funded under this program.

General information about the development and submission of preapplications, applications, eligibility, limitations, evaluation, and selection processes, and other policies and procedures are contained in the Application Guide for the Office of Science Financial Assistance Program and 10 CFR part 605. Electronic access to the latest version of SC's Financial Assistance Guide is possible via the Internet at the following Web site address: http://www.sc.doe.gov/production/grants/grants.html.

Additional information regarding format, preparation and specific requirements for this program may be found at the following Web site address: http://www.sc.doe.gov/production/bes/EPSCoR/APPLI1.HTM.

The Catalog of Federal Domestic Assistance Number for this program is 81.049, and the solicitation control number is ERFAP 10 CFR part 605.
Issued in Washington, DC on January 18, 2002.
John Rodney Clark,
Associate Director of Science for Resource Management.

[FR Doc. 02-2112 Filed 1-28-02; 8:45 am]

BILLING CODE 6450-02-P